DEPARTMENT OF ENERGY

10 CFR Chs. II, III, and X

48 CFR Ch. 9

Semiannual Regulatory Agenda

AGENCY: Department of Energy.

ACTION: Notice of semiannual regulatory agenda.

SUMMARY: The Department of Energy (DOE) has prepared and is making available its portion of the semiannual Unified Agenda of Federal Regulatory and Deregulatory Actions (Agenda), including its Regulatory Plan (Plan), pursuant to Executive Order 12866, “Regulatory Planning and Review,” and the Regulatory Flexibility Act.

SUPPLEMENTARY INFORMATION: The Agenda is a government-wide compilation of upcoming and ongoing regulatory activity, including a brief description of each rulemaking and a timetable for action. The Agenda also includes a list of regulatory actions completed since publication of the last Agenda. The Department of Energy's portion of the Agenda includes regulatory actions called for by the Energy Independence and Security Act of 2007, the American Energy Manufacturing Technical Corrections Act and programmatic needs of DOE offices.

The Internet is the basic means for disseminating the Agenda and providing users the ability to obtain information from the Agenda database. DOE's entire Fall 2014 Agenda can be accessed online by going to: www.reginfo.gov. Agenda entries reflect the status of activities as of approximately November 30, 2014.

Publication in the Federal Register is mandated by the Regulatory Flexibility Act (5 U.S.C. 602) only for Agenda entries that require either a regulatory flexibility analysis or periodic review under section 610 of that Act. DOE's regulatory flexibility agenda is made up of three rulemakings setting energy efficiency standards for the following products:

• Automatic Commercial Ice Makers

• Commercial Packaged Boilers

• Residential Furnace Fans

The Plan appears in both the online Agenda and the Federal Register and includes the most important of DOE's significant regulatory actions and a Statement of Regulatory and Deregulatory Priorities.

Steven P. Croley,
General Counsel.

Energy Efficiency and Renewable Energy—Prerule Stage
Sequence No. | Title | Regulation Identifier No.
272 | Energy Conservation Standards for Commercial Packaged Boilers | 1904-AD01

Energy Efficiency and Renewable Energy—Final Rule Stage
Sequence No. | Title | Regulation Identifier No.
273 | Energy Efficiency Standards for Automatic Commercial Ice Makers | 1904-AC39

Energy Efficiency and Renewable Energy—Completed Actions
Sequence No. | Title | Regulation Identifier No.
274 | Energy Conservation Standards for Residential Furnace Fans | 1904-AC22

DEPARTMENT OF ENERGY (DOE)

Energy Efficiency and Renewable Energy (EE)

Prerule stage

272. Energy Conservation Standards for Commercial Packaged Boilers

Legal Authority: 42 U.S.C. 6313(a)(6)(C)

Abstract: EPCA, as amended by AEMTCA, requires the Secretary to determine whether updating the statutory energy conservation standards for commercial packaged boilers is technically feasible and economically justified. If justified, the Secretary will issue amended energy conservation standards for such equipment.

Timetable:

Action | Date | FR Cite
Notice of Proposed Determination | 08/13/13 | 78 FR 49202
Public Meeting; Framework Document Availability | 09/03/13 | 78 FR 54197
NOPD Comment Period End | 09/12/13 |
Framework Document Comment Period End | 10/18/13 |
Preliminary Analysis | 11/00/14 |
NPRM | 07/00/15 |

Regulatory Flexibility Analysis Required: Yes.

Agency Contact: James Raba, Office of Building Technologies Program, EE-5B, Department of Energy, Energy Efficiency and Renewable Energy, 1000 Independence Avenue SW., Washington, DC 20585, Phone: 202 586-8654, Email: jim.raba@ee.doe.gov.

RIN: 1904-AD01

DEPARTMENT OF ENERGY (DOE)

Energy Efficiency and Renewable Energy (EE)

273. Energy Efficiency Standards for Automatic Commercial Ice Makers

Legal Authority: 42 U.S.C. 6313(d)(2) and (3)

Abstract: EPCA, as amended by EPACT 2005, requires the Secretary to determine whether updating the statutory standards for automatic commercial ice makers is technologically feasible and economically justified. If amended standards are technologically feaseible and economically justified, the Secretary will issue amended standards by January 1, 2015. DOE will also consider expanding the scope of coverage for this equipment.

Timetable:

Action | Date | FR Cite
Notice of Public Meeting: Availability of Preliminary Technical Support Document | 01/24/12 | 77 FR 3404
Comment Period Extended | 03/05/12 | 77 FR 13026
Extended Comment Period End | 04/22/12 |
Public Meeting date 04/14/14 | 03/17/14 | 79 FR 14846
NPRM | 03/17/14 | 79 FR 14846
NPRM Comment Period End | 05/16/14 |
Public Meeting Date | 06/19/14 |
Notice of Data Availability | 09/11/14 | 79 FR 54215
Comment Period End | 10/14/14 |
Final Action | 01/00/15 |

Regulatory Flexibility Analysis Required: Yes.

Agency Contact: John Cymbalsky, Office of Building Technologies Program, EE-5B, Department of Energy, Energy Efficiency and Renewable Energy, 1000 Independence Avenue SW., Washington, DC 20585, Phone: 202 287-1692, Email: john.cymbalsky@ee.doe.gov.

RIN: 1904-AC39

DEPARTMENT OF ENERGY (DOE)

Energy Efficiency and Renewable Energy (EE)

Completed Actions

274. Energy Conservation Standards for Residential Furnace Fans

Legal Authority: 42 U.S.C. 6295(f)(4)(D); 42 U.S.C. 6295(gg)(3)

Abstract: EPCA, as amended by EISA 2007, requires the Secretary to consider and prescribe energy conservation standards for “electricity used for purposes of circulating air through ductwork” (referred to in shorthand as “furnace fans”).

Completed:

Reason | Date | FR Cite
Final Action | 07/03/14 | 79 FR 38130
Final Action Effective | 09/02/14

Regulatory Flexibility Analysis Required: Yes.

Agency Contact: Ronald B. Majette, Phone: 202 586-7935, Email: ronald.majette@ee.doe.gov.

RIN: 1904-AC22

[FR Doc. 2014-28961 Filed 12-19-14; 8:45 am]

BILLING CODE 6450-01-P